NEIGHBORHOOD REINVESTMENT CORPORATION

Sunshine Act Meetings

TIME AND DATE: 2:00 p.m., Thursday, August 15, 2024.

PLACE: via ZOOM.

STATUS: Parts of this meeting will be open to the public. The rest of the meeting will be closed to the public.

MATTERS TO BE CONSIDERED: Regular Board of Directors meeting.

The General Counsel of the Corporation has certified that in her opinion, one or more of the exemptions set forth in the Government in the Sunshine Act, 5 U.S.C. 552b(c)(2) permit closure of the following portion(s) of this meeting:

• Executive (Closed) Session

Agenda

I. Call to Order

II. Sunshine Act Approval of Executive (Closed) Session

III. Executive Session: Special Topic

IV. Executive Session: CEO Report

V. Executive Session: CFO Report

VI. Executive Session: General Counsel Report

VII. Executive Session: CIO Report

VIII. Action Item: Approval of Meeting Minutes from June 24, 2024 Regular Board of Directors Meeting and June 28, 2024 Special Audit Committee Meeting

IX. Action Item: Approval of Revised Whistleblower Policy

X. Action Item: Approval of Revised Code of Ethical Conduct

XI. Action Item: FY2025 Preliminary Spend Plan

XII. Discussion Item: Audit Committee Report—June 28,2024 Special Meeting; August 13, 2024 Regular Meeting

XIII. Management Reports

a. 2024 Board Calendar

b. 2024 Board Agenda Planner

c. CFO Report

i. Financials Through May 31, 2024

ii. Single Voice Approvals $100K and Over

iii. Vendor Payments $350K and Over

iv. Exceptions

d. Programs Dashboard

e. Housing Stability Counseling Program (HSCP)

f. Strategic Plan Scorecard—FY2024 Q2 (With Q2 Production)

Portions Open to the Public: Everything except the Executive (Closed) Session.

Portions Closed to the Public: Executive (Closed) Session.

CONTACT PERSON FOR MORE INFORMATION: Jenna Sylvester, Paralegal, (202) 568-2560; jsylvester@nw.org.

Jenna Sylvester,
Paralegal.

[FR Doc. 2024-17785 Filed 8-6-24; 4:15 pm]

BILLING CODE 7570-01-P